DEPARTMENT OF JUSTICE

Drug Enforcement Administration

[Docket No. DEA-392]

Bulk Manufacturer of Controlled Substances Registration

ACTION: Notice of registration.

SUMMARY: The registrants listed below has applied for and has been granted registration by the Drug Enforcement Administration (DEA) as bulk manufacturer of various classes of schedule I and II controlled substances.

SUPPLEMENTARY INFORMATION: The companies listed below applied to be registered as bulk manufacturers of various basic classes of controlled substances. Information on previously published notices is listed in the table below. No comments or objections were submitted for these notices.

Company | FR Docket | Published
AMPAC Fine Chemicals Virginia, LLC | 83 FR 48334 | September 24, 2018.
AMPAC Fine Chemicals, LLC | 83 FR 49578 | October 2, 2018.

The DEA has considered the factors in 21 U.S.C. 823(a) and determined that the registration of this registrant to manufacture the applicable basic classes of controlled substances is consistent with the public interest and with United States obligations under international treaties, conventions, or protocols in effect on May 1, 1971. The DEA investigated the company's maintenance of effective controls against diversion by inspecting and testing their physical security systems, verifying their compliance with state and local laws, and reviewing each of the company's background and history.

Therefore, pursuant to 21 U.S.C. 823(a), and in accordance with 21 CFR 1301.33, the DEA has granted a registration as a bulk manufacturer to the above listed companies.

Dated: December 21, 2018.
John J. Martin,
Assistant Administrator.

[FR Doc. 2019-01525 Filed 2-6-19; 8:45 am]

BILLING CODE 4410-09-P